Proclamation 10540 of March 31, 2023

Care Workers Recognition Month, 2023

By the President of the United States of America

A Proclamation

Across America, care workers help raise our children, assist seniors as they age with dignity, and support people with disabilities—giving families peace of mind and making it possible for millions of Americans to earn a paycheck while their loved ones are safe and secure. These unsung heroes strengthen our communities and form the backbone of our Nation's economy. This month, we honor their extraordinary contributions and commit to supporting them with better pay, better benefits, and the recognition they have long deserved.

Despite all they give to this country, care workers—including child care workers, home care workers, and long-term care workers—are among the lowest-paid workers in America. Some juggle multiple jobs, and many leave the profession altogether in search of better options. The vast majority of care workers are women, and a disproportionate share are people of color, so this chronic underpayment deepens gender and racial wealth gaps. During the COVID-19 pandemic, many care workers were forced to put themselves and their families at risk, just to do their jobs. And the care workforce continues to recover slowly, making it hard for families to find care. This leads to hundreds of billions in lost wages each year and only heightens the obligation placed on the Nation's more than 50 million family caregivers.

As many have said, care is the work that makes all other work possible. That is why my Administration invested over $39 billion from our American Rescue Plan to help child care providers keep their doors open and to provide child care workers with higher pay, bonuses, and other benefits—reducing turnover and attracting new staff. To date, these efforts have helped 220,000 child care programs, which employ more than 1 million child care workers and have the capacity to serve 9.6 million children. At the height of the pandemic, we delivered financial relief to nearly 300,000 child care workers through our expanded earned income tax credit. We know we must do more, so my most recent budget proposes investing $600 billion over 10 years to expand access to high-quality child care and free, high-quality preschool. This funding will allow States to increase pay for child care workers while helping the families of more than 16 million children afford child care.

Meanwhile, we are promoting the use of apprenticeship programs and partnering with employers, unions, and others to recruit, train, and keep long-term care workers on the job while also helping them advance their careers as registered and licensed nurses. My Budget calls on the Congress to invest $150 billion over the next decade to improve and expand Medicaid home- and community-based services—making it easier for seniors and people with disabilities to receive care in their own homes. This funding would improve the quality of jobs for home care workers and support family caregivers.

Our message this month to care workers across America is simple: The work you do matters. You are there for families when they need you most—providing comfort, strength, and compassion that inspire us all. Your devotion to the people and communities you serve represents the best of America's character, and we will always stand with you, ensuring you are seen, valued, and rewarded fairly for the work you do.

NOW, THEREFORE, I, JOSEPH R. BIDEN JR., President of the United States of America, by virtue of the authority vested in me by the Constitution and the laws of the United States, do hereby proclaim April 2023 as Care Workers Recognition Month. I call upon all Americans to celebrate the contributions of care workers to our Nation with appropriate ceremonies, activities, and programs.

IN WITNESS WHEREOF, I have hereunto set my hand this thirty-first day of March, in the year of our Lord two thousand twenty-three, and of the Independence of the United States of America the two hundred and forty-seventh.

[FR Doc. 2023-07308

Filed 4-4-23; 11:15 am]

Billing code 3395-F3-P